Title 3—

The President

Proclamation 9895 of May 20, 2019

National Maritime Day, 2019

By the President of the United States of America

A Proclamation

On National Maritime Day, we honor the men and women who, throughout our history, have served with professionalism, dedication, and patriotism in the United States Merchant Marine. We recognize these seafaring merchant mariners for helping to fuel our economy, maintain our sea power, and support our national security.

Merchant mariners extend goodwill into all parts of the world, serving as a peaceful United States presence on international waterways. Today, American mariners facilitate the import and export of billions of dollars of goods, including fuel, agricultural products, and raw materials through the Marine Transportation System. They are also among the first to respond to help their fellow citizens in the wake of national disasters.

During times of war, merchant mariners courageously sail into combat zones to provide sealift for the Department of Defense, carrying weapons and supplies to America's fighting forces. In every conflict, United States citizen mariners have answered the call to duty and risked their lives. Some have sadly made the ultimate sacrifice for their country.

Because the United States Merchant Marine plays a central role in bringing American goods to market and in bolstering our military readiness abroad, we must encourage more people to pursue career opportunities on America's waterways and the oceans of the world. For this reason, I recently signed an Executive Order to help veterans of the Armed Forces transition seamlessly into civilian careers in the United States Merchant Marine by allowing them to apply relevant military training and experience toward becoming credentialed merchant mariners. This will help support a robust, well-equipped, and safe merchant fleet crewed by well-trained mariners.

The Congress, by a joint resolution approved May 20, 1933, has designated May 22 of each year as “National Maritime Day” to commemorate the first transoceanic voyage by a steamship in 1819 by the S.S. Savannah. By this resolution, the Congress has authorized and requested the President to issue annually a proclamation calling for its appropriate observance.

NOW, THEREFORE, I, DONALD J. TRUMP, President of the United States of America, do hereby proclaim May 22, 2019, as National Maritime Day. I call upon the people of the United States to mark this observance and to display the flag of the United States at their homes and in their communities. I also request that all ships sailing under the American flag dress ship on that day.

IN WITNESS WHEREOF, I have hereunto set my hand this twentieth day of May, in the year of our Lord two thousand nineteen, and of the Independence of the United States of America the two hundred and forty-third.

[FR Doc. 2019-11110

Filed 5-23-19; 11:15 am]

Billing code 3295-F9-P